DEPARTMENT OF STATE

[Public Notice 11946]

Proposal To Extend and Amend Cultural Property Agreement Between the United States and Cambodia

SUMMARY: Proposal to extend and amend the Memorandum of Understanding Between the Government of the United States of America and the Government of the Kingdom of Cambodia Concerning the Imposition of Import Restrictions on Categories of Archaeological Material of Cambodia.

FOR FURTHER INFORMATION CONTACT: Anne Compton, Cultural Heritage Center, Bureau of Educational and Cultural Affairs: (202) 377-9783; culprop@state.gov; include “Cambodia” in the subject line.

SUPPLEMENTARY INFORMATION: Pursuant to the authority vested in the Assistant Secretary of State for Educational and Cultural Affairs, and pursuant to 19 U.S.C. 2602(f)(1), an extension and amendment of the Memorandum of Understanding Between the Government of the United States of America and the Government of the Kingdom of Cambodia Concerning the Imposition of Import Restrictions on Categories of Archaeological Material of Cambodia is hereby proposed.

The Government of the Kingdom of Cambodia has requested that the agreement be amended to include additional categories of archaeological and ethnological materials.

A copy of the Memorandum of Understanding, the Designated List of categories of material currently restricted from import into the United States, categories of material that may be included in amended import restrictions, and related information can be found at the Cultural Heritage Center website: http://culturalheritage.state.gov.

Allison Davis,
Executive Director, Cultural Property Advisory Committee, Bureau of Educational and Cultural Affairs, Department of State.

[FR Doc. 2022-27738 Filed 12-20-22; 8:45 am]

BILLING CODE 4710-05-P